NUCLEAR REGULATORY COMMISSION

[NRC-2009-0512]

Receipt of Request for Action

In the Matter of:
Entergy Nuclear Operations, Inc., Entergy Nuclear Generation Company (Pilgrim Nuclear Power Station) | Docket No. 50-293, License No. DPR-35.
Entergy Nuclear Indian Point 2, LLC (Indian Point Nuclear Generating Unit Nos. 1 and 2) | Docket Nos. 50-003, 50-247, and 72-51, License Nos. DPR-5 and DPR-26.
Entergy Nuclear Indian Point 3, LLC (Indian Point Nuclear Generating Unit No. 3) | Docket No. 50-286, License No. DPR-64.
Entergy Nuclear Fitzpatrick, LLC (James A. FitzPatrick Nuclear Power Plant) | Docket Nos. 50-333 and 72-12, License No. DPR-59.
Entergy Nuclear Vermont Yankee, LLC (Vermont Yankee Nuclear Power Station) | Docket Nos. 50-271 and 72-59, License No. DPR-28.
Entergy Nuclear Palisades, LLC (Palisades Nuclear Plant) (Big Rock Point) | Docket Nos. 50-255 and 72-7, License No. DPR-20; Docket Nos. 50-155 and 72-43, License No. DPR-6.

I

Entergy Nuclear Operations, Inc. (ENO) and Entergy Nuclear Generation Company (Entergy Nuclear) are co-holders of the Facility Operating License, No. DPR-35, which authorizes the possession, use, and operation of the Pilgrim Nuclear Power Station (Pilgrim). Pilgrim is a boiling water nuclear reactor that is owned by Entergy Nuclear and operated by ENO. The facility is located on the western shore of Cape Cod in the town of Plymouth on the Entergy Nuclear site in Plymouth County, Massachusetts.

ENO and Entergy Nuclear Indian Point 2, LLC (ENIP2) are co-holders of the Facility Operating License, No. DPR-5, which authorizes the possession of the Indian Point Nuclear Generating Unit No. 1 (IP1). IP1 is a pressurized water nuclear reactor that is owned by ENIP2 and maintained by ENO. IP1 was permanently shut down in 1974 and placed in a safe storage condition pending decommissioning. The facility is located in Westchester County, New York.

ENO and ENIP2 are co-holders of the Facility Operating License, No. DPR-26, which authorizes the possession, use, and operation of the Indian Point Nuclear Generating Unit No. 2 (IP2). ENO and Entergy Nuclear Indian Point 3, LLC (ENIP3) are co-holders of the Facility Operating License, No. DPR-64, which authorizes the possession, use, and operation of the Indian Point Nuclear Generating Unit No. 3 (IP3). IP2 and IP3 are both pressurized water nuclear reactors that are owned by ENIP2 and ENIP3, respectively, and operated by ENO. The facilities are located in Westchester County, New York.

ENO and Entergy Nuclear FitzPatrick, LLC (EN-FitzPatrick) are co-holders of the Facility Operating License, No. DPR-59, which authorizes the possession, use, and operation of the James A. FitzPatrick Nuclear Power Plant (FitzPatrick). FitzPatrick is a boiling water nuclear reactor that is owned by EN-FitzPatrick and operated by ENO. The facility is located in Scriba, Oswego County, New York.

ENO and Entergy Nuclear Vermont Yankee, LLC (EN-Vermont Yankee) are co-holders of the Facility Operating License, No. DPR-28, which authorizes the possession, use, and operation of the Vermont Yankee Nuclear Power Station (Vermont Yankee). Vermont Yankee is a boiling water nuclear reactor that is owned by EN-Vermont Yankee and operated by ENO. The facility is located in the town of Vernon, Windham County, Vermont.

ENO and Entergy Nuclear Palisades, LLC (EN-Palisades) are co-holders of the Renewed Facility Operating License, No. DPR-20, which authorizes the possession, use, and operation of the Palisades Nuclear Plant (Palisades). Palisades is a pressurized water nuclear reactor that is owned by EN-Palisades and operated by ENO. The facility is located in Van Buren County, Michigan.

ENO and EN-Palisades are co-holders of the Facility Operating License, No. DPR-06, which authorizes the possession of Big Rock Point. Big Rock Point is an independent spent fuel storage installation (ISFSI) that is owned by EN-Palisades and operated by ENO. The facility is located in Charlevoix County, Michigan.

II

The NRC's Orders dated July 28, 2008, consented to the indirect transfer of control of the licenses of the above facilities pursuant to Section 50.80 of Title 10 of the Code of Federal Regulations in connection with a proposed corporate restructuring and establishment of Enexus Energy Corporation. By its terms, the Orders of July 28, 2008, would become null and void if the license transfers were not completed by July 28, 2009, unless upon application and for good cause shown, such date was extended by the Commission.

By letter dated May 15, 2009, as supplemented by letter dated May 29, 2009, ENO, acting on behalf of itself, Entergy Nuclear, ENIP2, ENIP3, EN-FitzPatrick, EN-Vermont Yankee, and EN-Palisades, submitted a request for an extension of the effectiveness of the Orders of July 28, 2008, such that they would remain effective until January 28, 2010. By Order dated July 24, 2009, the effectiveness of the Orders dated July 28, 2008, was extended through January 28, 2010. Similarly, by its terms, the Orders of July 28, 2008, become null and void if the license transfers are not completed by January 28, 2010, unless upon application and for good cause shown, such date is extended by the Commission.

By letter dated November 3, 2009, ENO, acting on behalf of itself, Entergy Nuclear, ENIP2, ENIP3, EN-FitzPatrick, EN-Vermont Yankee, and EN-Palisades, submitted a further request for an extension of the effectiveness of the Orders of July 28, 2008, such that they would remain effective through August 1, 2010, in order to allow ample time for completion of the proposed corporate restructuring.

III

Notice is hereby given that by letter dated November 3, 2009, ENO, acting on behalf of itself, Entergy Nuclear, ENIP2, ENIP3, EN-FitzPatrick, EN-Vermont Yankee, and EN-Palisades, has requested that the NRC take action to extend the effectiveness of the Orders of July 28, 2008, such that they would remain effective through August 1, 2010. The NRC staff is currently reviewing this request.

IV

A copy of this request is available for inspection at the Commission's Public Document Room (PDR), located at One White Flint North, Public File Area O1 F21, 11555 Rockville Pike (first floor), Rockville, Maryland. Publicly available records will be accessible from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or by e-mail to pdr.Resource@nrc.gov.

For the Nuclear Regulatory Commission.
Dated at Rockville, Maryland, this 18th day of November 2009.
Douglas V. Pickett,
Senior Project Manager, Plant Licensing Branch I-1, Division of Operating Reactor Licensing, Office of Nuclear Reactor Regulation.

[FR Doc. E9-28379 Filed 11-25-09; 8:45 am]

BILLING CODE 7590-01-P